DEPARTMENT OF COMMERCE

International Trade Administration

[A-428-801]

Ball Bearings and Parts Thereof From Germany: Initiation of Antidumping Duty Changed-Circumstances Review

AGENCY: Import Administration, International Trade Administration, Department of Commerce.

SUMMARY: Pursuant to section 751(b) of the Tariff Act of 1930, as amended (the Act), and 19 CFR 351.216 and 351.221(c)(3), the Department of Commerce (the Department) is initiating a changed-circumstances review of the antidumping duty order on ball bearings and parts thereof from Germany with respect to Schaeffler Technologies GmbH & Co. KG (Schaeffler Technologies).

DATES: Effective Date: February 24, 2011

FOR FURTHER INFORMATION: Thomas Schauer or Richard Rimlinger, AD/CVD Operations, Office 5, Import Administration, International Trade Administration, U.S. Department of Commerce, 14th Street and Constitution Avenue, NW., Washington, DC 20230; telephone: (202) 482-0410 or (202) 482-4477, respectively.

SUPPLEMENTARY INFORMATION:

Background

The Department published an antidumping duty order on ball bearings and parts thereof from Germany on May 15, 1989. See Antidumping Duty Orders: Ball Bearings, Cylindrical Roller Bearings, and Spherical Plain Bearings and Parts Thereof From the Federal Republic of Germany, 54 FR 20900 (May 15, 1989). On June 30, 2010, we initiated an administrative review of the order on ball bearings and parts thereof from Germany covering the period May 1, 2009, through April 30, 2010. See Initiation of Antidumping and Countervailing Duty Administrative Reviews and Requests for Revocation in Part, 75 FR 37759 (June 30, 2010). After analysis of the quantity and value of the sales of ball bearings and parts thereof from Germany during the 2009-10 period of review, we selected Schaeffler KG as a respondent for individual examination. See the Memorandum to Laurie Parkhill entitled “Ball Bearings and Parts Thereof from Germany—Selection of Respondents” dated August 18, 2010, on the record of the 2009-10 review. On January 14, 2011, Schaeffler Technologies requested that the Department conduct a changed-circumstance review to determine that Schaeffler Technologies is the successor-in-interest to Schaeffler KG.

Scope of the Order

The products covered by the order are ball bearings and parts thereof. These products include all antifriction bearings that employ balls as the rolling element. Imports of these products are classified under the following categories: Antifriction balls, ball bearings with integral shafts, ball bearings (including radial ball bearings) and parts thereof, and housed or mounted ball bearing units and parts thereof.

Imports of these products are classified under the following Harmonized Tariff Schedule of the United States (HTSUS) subheadings: 3926.90.45, 4016.93.10, 4016.93.50, 6909.19.50.10, 8414.90.41.75, 8431.20.00, 8431.39.00.10, 8482.10.10, 8482.10.50, 8482.80.00, 8482.91.00, 8482.99.05, 8482.99.35, 8482.99.25.80, 8482.99.65.95, 8483.20.40, 8483.20.80, 8483.30.40, 8483.30.80, 8483.50.90, 8483.90.20, 8483.90.30, 8483.90.70, 8708.50.50, 8708.60.50, 8708.60.80, 8708.93.30, 8708.93.60.00, 8708.99.06, 8708.99.31.00, 8708.99.40.00, 8708.99.49.60, 8708.99.58, 8708.99.80.15, 8708.99.80.80, 8803.10.00, 8803.20.00, 8803.30.00, 8803.90.30, 8803.90.90, 8708.30.50.90, 8708.40.75.70, 8708.40.75.80, 8708.50.79.00, 8708.50.89.00, 8708.50.91.50, 8708.50.99.00, 8708.70.60.60, 8708.80.65.90, 8708.93.75.00, 8708.94.75, 8708.95.20.00, 8708.99.55.00, 8708.99.68, and 8708.99.81.80.

Although the HTSUS item numbers above are provided for convenience and customs purposes, the written description of the scope of the order remains dispositive.

The size or precision grade of a bearing does not influence whether the bearing is covered by the order. The order covers all the subject bearings and parts thereof (inner race, outer race, cage, rollers, balls, seals, shields, etc.) outlined above with certain limitations. With regard to finished parts, all such parts are included in the scope of the order. For unfinished parts, such parts are included if they have been heat-treated or if heat treatment is not required to be performed on the part. Thus, the only unfinished parts that are not covered by the order are those that will be subject to heat treatment after importation. The ultimate application of a bearing also does not influence whether the bearing is covered by the order. Bearings designed for highly specialized applications are not excluded. Any of the subject bearings, regardless of whether they may ultimately be utilized in aircraft, automobiles, or other equipment, are within the scope of the order.

For a list of scope determinations which pertain to the order, see the “Memorandum to Laurie Parkhill” regarding scope determinations for the 2008-09 reviews, dated April 21, 2010, which is on file in the Central Records Unit of the main Department of Commerce building, room 7046, in the General Issues record (A-100-001).

Initiation of Changed-Circumstances Review

Pursuant to section 751(b)(1) of the Act and 19 CFR 351.216(d), the Department will conduct a changed-circumstances review upon receipt of information concerning, or a request from an interested party for a review of, an antidumping duty order which shows changed circumstances sufficient to warrant a review of the order. Based on the information Schaeffler Technologies submitted in its January 14, 2011, letter, we find that we have received information which shows changed circumstances sufficient to warrant initiation of such a review in order to determine whether Schaeffler Technologies is the successor-in-interest to Schaeffler KG. See 19 CFR 351.216(d). Therefore, in accordance with the above-referenced statute and regulation, the Department is initiating a changed-circumstances review.

Because we are currently conducting the 2009-10 administrative review of this order and Schaeffler KG is subject to the review, we will conduct the changed-circumstances review in the context of the 2009-10 administrative review. We intend to issue the preliminary results of the changed-circumstances review when we issue the preliminary results of the 2009-10 administrative review; we intend to issue the final results of the changed-circumstances review when we issue the final results of the 2009-10 administrative review. During the course of this review, we will not change the cash-deposit requirements for the subject merchandise. The cash-deposit rate will be altered, if warranted, pursuant only to the final results of the changed-circumstances and/or administrative review.

This notice of initiation is in accordance with section 751(b)(1) of the Act and 19 CFR 351.221(b)(1).

Dated: February 16, 2011.
Christian Marsh,
Deputy Assistant Secretary for Antidumping and Countervailing Duty Operations.

[FR Doc. 2011-4189 Filed 2-23-11; 8:45 am]

BILLING CODE 3510-DS-P